DEPARTMENT OF JUSTICE

Notice of Lodging of Consent Decree Under the Comprehensive Environmental Response, Compensation, and Liability Act

Notice is hereby given that on December 17, 2008, a proposed Consent Decree in United States of America et al. v. Standard Metals Corporation, Civil Action No. 08-CV-02741 was lodged with the United States District Court for the District of Colorado.

In this action the United States, on behalf of the Administrator of the United States Environmental Protection Agency, the Chief of the United States Department of Agriculture Forest Service, and the Secretary of the Interior, and the State of Colorado, on behalf of the Executive Director of the Colorado Department of Public Health and Environment, the Director of the Colorado Department of Natural Resources, and the Attorney General of the State of Colorado (together, the “government”), sought to recover response costs incurred or to be incurred for response actions taken or to be taken at or in connection with the release or threatened release of hazardous substances at the Standard Mine Site in Gunnison County, Colorado, the Ross Adams Site on Prince of Wales Island, Alaska, six sites in San Juan County, Colorado, and the Antler Mine and Mill Site in Mohave County, Arizona (collectively, the “Sites”), and to recover damages for injury to, destruction of, or loss of natural resources at the Sites and surrounding riparian corridors, including the reasonable costs of assessing such injury, destruction or loss, pursuant to Section 107 of the Comprehensive Environmental Response, Compensation, and Liability Act of 1980 (“CERCLA”), 42 U.S.C. 9607.

The Consent Decree resolves the government's CERCLA response cost claims at the Sites by requiring that Standard pursue insurance recovery and pay to the government 50% of the first $180,000 recovered and 90% of all recovery thereafter. The Consent Decree resolves the government's CERCLA natural resource damage claims at the Sites by requiring that Standard transfer to the United States approximately 800 acres of real property to which it holds title, at the government's option.

The Department of Justice will receive for a period of thirty (30) days from the date of this publication comments relating to the Decree. Comments should be addressed to the Assistant Attorney General, Environmental and Natural Resources Division, and either e-mailed to pubcomment-ees.enrd@usdoj.gov or mailed to P.O. Box 7611, U.S. Department of Justice, Washington, DC 20044-7611, and should refer to United States, et al. v. Standard Metals Corporation, Civil Action No. 08-CV-02741 (D.CO), D.J. Ref. 90-11-3-08831.

The Decree may be examined at U.S. EPA Region 8, 1595 Wynkoop Street, Denver, Colorado 80202. During the public comment period, the Decree, may also be examined on the following Department of Justice Web site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $23.25 (25 cents per page reproduction cost) payable to the U.S. Treasury or, if by e-mail or fax, forward a check in that amount to the Consent Decree Library at the stated address.

Robert Brook,
Assistant Chief, Environmental Enforcement Section, Environment and Natural Resources Division.

[FR Doc. E8-30437 Filed 12-22-08; 8:45 am]

BILLING CODE 4410-15-P